DEPARTMENT OF ENERGY

Federal Energy Regulatory Commission

[Docket No. EG03-87-000]

Hardee Power Partners, Limited; Notice of Application for Commission Determination of Exempt Wholesale Generator Status

September 12, 2003.

Take notice that on September 9, 2003, Hardee Power Partners, Limited (Hardee Power) filed with the Federal Energy Regulatory Commission (the Commission) a supplement to its application for determination of exempt wholesale generator status pursuant to Section 32 of the Public Utility Holding Company Act of 1935, as amended, and part 365 of the Commission's regulations, on and as of the time at which a proposed transaction that will result in a change in Hardee Power's upstream owners closes (Transaction Closing Time).

Hardee Power states that as of the Transaction Closing Time and as described in the supplement and application, Hardee Power, a Florida limited partnership, will be engaged directly and exclusively in the business of operating all or part of one or more eligible facilities located in Florida. Hardee Power also states that the eligible facilities will consist of an approximate 307 MW natural gas/No. 2 oil fired electric generation plant and related interconnection facilities. The output of the eligible facilities will be sold at wholesale.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: September 22, 2003.

Magalie R. Salas,
Secretary.

[FR Doc. 03-24068 Filed 9-22-03; 8:45 am]

BILLING CODE 6717-01-P